ENVIRONMENTAL PROTECTION AGENCY

[ER-FRL-6252-4]

Environmental Impact Statements; Notice of Availability

Responsible Agency: Office of Federal Activities, General Information (202) 564-7167 OR www.epa.gov/oeca/ofa.

Weekly receipt of Environmental Impact Statements

Filed March 13, 2000 Through March 17, 2000

Pursuant to 40 CFR 1506.9.

EIS No. 000078, Final EIS, SFW, ID, MT, Grizzly Bear (Ursus arctos horribilus) Recovery Plan in the Bitterroot Ecosystem, Implementation, Endangered Species Act, Proposed Special Rule 10(j) Establishment of a Nonessential Experimental Population of Grizzly Bears in the Bitterroot Area, Rocky Mountain, Blaine, Camas, Boise, Clearwater, Custer, Elmore, Idaho, Lemhi, Shoshone, Due: April 24, 2000, Contact: Dr. Christopher Servheen (406) 243-4903.

EIS No. 000079, Draft EIS, FHW, VA, Coalfields Expressway Location Study, Improvements from Route 23 near Pound, VA to the WV State Line east of Slate, VA, Funding and COE Section 404 Permit, Wise, Dickerson and Buchanan, VA, Due: May 12, 2000, Contact: Roberto Forseca-Martinez (804) 775-3320.

Amended Notices

EIS No. 000001, Draft EIS, SFW, WA, Tacoma Water Green River Water Supply Operations and Watershed Protection Habitat Conservation Plan, Implementation, Issuance of a Multiple Species Permit for Incidental Take, King County, WA, Due: March 31, 2000, Contact: Tim Romanski (360) 753-5823. Published FR on 1-14-2000: CEQ Comment Date has been extended from 03/14/2000 to 03/31/2000.

EIS No. 000062, Final EIS, OSM, TN, Fall Creek Falls Petition Evaluation Document, Implementation, Designate the Land as Unsuitable for Surface Coal Mining Operation, Van Buren and Bledsoe Counties, TN , Due: May 03, 2000, Contact: Sam K. Bae (202) 208-2633. Published FR on 3-03-2000: CEQ Comment Date has been extended from 04/03/2000 to 05/03/2000.

EIS No. 000074, Draft EIS, AFS, CO, Upper Blue Stewardship Project, Implementation of Vegetation Management, Travel Management, Designation of Dispersed Camping Sites, White River National Forest, Dillon Ranger District, Summit County, CO, Due: May 01, 2000, Contact: Kathleen Phelps (970) 468-5400. Published FR-3-17-00—Correction to Comment Period from 5-12-2000 to 5-1-2000 and Correction to Title.

Dated: March 21, 2000.
B. Katherine Biggs,
Associate Director, Office of Federal Activities.

[FR Doc. 00-7349 Filed 3-23-00; 8:45 am]

BILLING CODE 6560-50-U